COMMISSION ON CIVIL RIGHTS

Notice of Public Meeting of the Minnesota Advisory Committee To Begin Preparations for a Public Hearing To Gather Testimony Regarding Civil Rights and Policing Practices in Minnesota

AGENCY: U.S. Commission on Civil Rights.

ACTION: Announcement of meeting.

SUMMARY: Notice is hereby given, pursuant to the provisions of the rules and regulations of the U.S. Commission on Civil Rights (Commission) and the Federal Advisory Committee Act that the Minnesota Advisory Committee (Committee) will hold a meeting on Thursday, December 08, 2016, at 1:00pm CST for the purpose of preparing for a public hearing to gather testimony regarding civil rights and policing practices in Minnesota.

DATES: The meeting will be held on Thursday, December 8, 2016, at 1:00 p.m. CST.

Public Call Information: Dial: 877-857-6161, Conference ID: 6681139.

FOR FURTHER INFORMATION CONTACT: Melissa Wojnaroski, DFO, at mwojnaroski@usccr.gov or 312-353-8311.

SUPPLEMENTARY INFORMATION: Members of the public can listen to the discussion. This meeting is available to the public through the following toll-free call-in number: 877-857-6161, conference ID: 6681139. Any interested member of the public may call this number and listen to the meeting. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office within 30 days following the meeting. Written comments may be mailed to the Regional Programs Unit Office, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Minnesota Advisory Committee link (http://www.facadatabase.gov/committee/meetings.aspx?cid=256). Persons interested in the work of this Committee are directed to the Commission's Web site, http://www.usccr.gov, or may contact the Regional Programs Unit at the above email or street address.

Agenda

Welcome and Introductions

Discussion of Hearing Preparation: Civil Rights and Policing Practices in Minnesota

Public Comment

Future Plans and Actions

Adjournment

Dated: November 14, 2016.
David Mussatt,
Supervisory Chief, Regional Programs Unit.

[FR Doc. 2016-27657 Filed 11-16-16; 8:45 am]

BILLING CODE 6335-01-P